DEPARTMENT OF TRANSPORTATION

Federal Aviation Administration

Notice of Intent To Rule on Application 05-06-U-00-LEX To Use the Revenue From a Passenger Facility Charge (PFC) at Blue Grass Airport, Lexington, KY

AGENCY: Federal Aviation Administration (FAA), DOT.

ACTION: Notice of intent to rule on application.

SUMMARY: The FAA proposes to rule and invites public comment on the application to use the revenue from a PFC at Blue Grass Airport under the provisions of the 49 U.S.C. 40117 and Part 158 of the Federal Aviation Regulations (14 CFR Part 158).

DATES: Comments must be received on or before March 24, 2005.

ADDRESSES: Comments on this application may be mailed or delivered in triplicate to the FAA at the following address: Memphis Airports District Office, 2862 Business Park Drive, Building G, Memphis, Tennessee 38118-1555.

In addition, one copy of any comments submitted to the FAA must be mailed or delivered to Mr. Michael A. Gobb, Executive Director of the Lexington-Fayette Urban County Airport Board at the following address: 4000 Versailles Road, Lexington, Kentucky 40510.

Air carriers and foreign air carriers may submit copies of written comments previously provided to the Lexington-Fayette Urban County Airport Board under § 158.23 of Part 158.

FOR FURTHER INFORMATION CONTACT: Tommy L. Dupree, Airports Program Manager, Memphis Airports District Office, 2862 Business Park Drive, Building G, Memphis, Tennessee 38118-1555, (901) 322-8185. The application may be reviewed in person at this same location.

SUPPLEMENTARY INFORMATION: The FAA proposes to rule and invites public comment on the application to use the revenue from a PFC at Blue Grass Airport under the provisions of the 49 U.S.C. 40117 and Part 158 of the Federal Aviation Regulations (14 CFR Part 158).

On February 14, 2005, the FAA determined that the application to use the revenue from a PFC submitted by Lexington-Fayette Urban County Airport Board was substantially complete within the requirements of § 158.25 of Part 158. The FAA will approve or disapprove the application, in whole or in part, no later than June 14, 2005.

The following is a brief overview of the application.

Actual charge effective date: December 1, 2003.

Estimated charge expiration date: August 1, 2022.

Level of the PFC: $4.50.

Total approved PFC revenue: $45,695,766.

Brief description of proposed project(s): Runway Safety Area Improvements, Terminal Interior Modifications, Concourse Gate Additions.

Class or classes of air carriers which the public agency has requested not be required to collect PFCs: The Board intends to request that those carriers operating under Part 135, non-scheduled, whole-plane charter-basis, i.e. Air Taxi/Commercial Operators (“ATCO”) which files Form 1800-31, at the airport to be exempt from collecting the PFC.

Any person may inspect the application in person at the FAA office listed above under FOR FURTHER INFORMATION CONTACT.

In addition, any person may, upon request, inspect the application, notice and other documents germane to the application in person at the Lexington-Fayette Urban County Airport Board.

Issued in Memphis, Tennessee, on February 14, 2005.
Charles L. Harris,
Acting Manager, Memphis Airports District Office, Southern Region.

[FR Doc. 05-3382 Filed 2-18-05; 8:45 am]

BILLING CODE 4910-13-M